ENVIRONMENTAL PROTECTION AGENCY

[FRL-7394-9]

Agency Information Collection Activities: Submission for OMB Review; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: 2003 Drinking Water Infrastructure Needs Survey; EPA ICR No. 2085.01. The ICR describes the nature of the information collection and its expected burden and cost; where appropriate, it includes the actual data collection instrument.

DATES: Comments must be submitted on or before November 18, 2002.

ADDRESSES: Send comments, referencing EPA ICR No. 2085.01 to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at auby.susan@epa.gov or download off the Internet at http://www.epa.gov/icr and refer to EPA ICR No. 2085.01. For technical questions about the ICR contact David Travers at (202) 564-4638 or travers.david@epa.gov

SUPPLEMENTARY INFORMATION: Title: Information Collection Request for the 2003 Drinking Water Infrastructure Needs Survey EPA ICR No. 2085.01.

Abstract: The Environmental Protection Agency (EPA) will conduct a voluntary survey to estimate the capital investment needs for drinking water systems. The nationwide survey is authorized by sections 1452(h) and 2452(i)(4) of the Safe Drinking Water Act and will be used to estimate the cost of providing safe drinking water to consumers over a 20-year period. The data also will be used to allocate Drinking Water State Revolving Fund monies among the states and as part of an allotment formula for the American Indian and Alaska Native Village set-aside program. All states have committed to assist EPA in administering the survey. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 16, 2002; three comments were received.

Burden Statement: The annual public reporting and recordkeeping burden for this collection of information is estimated to average 4 hours per response. Burden means the total time, effort, or financial resources expended by persons to generate, maintain, retain, or disclose or provide information to or for a Federal agency. This includes the time needed to review instructions; collect, validate, and verify information; search data sources; complete and review the collection of information; and transmit or otherwise disclose the information.

Respondents/Affected Entities: Community Water Systems.

Estimated Number of Respondents: 3,790.

Frequency of Response: Once.

Estimated Total Annual Hour Burden: 14,809.

Estimated Total Annualized Capital, O&M Cost Burden: $0.

Send comments on the Agency's need for this information, the accuracy of the provided burden estimates, and any suggested methods for minimizing respondent burden, including through the use of automated collection techniques to the addresses listed above. Please refer to EPA ICR No. 2085.01 in any correspondence.

Dated: October 7, 2002.
Oscar Morales,
Director, Collection Strategies Division.

[FR Doc. 02-26574 Filed 10-17-02; 8:45 am]

BILLING CODE 6560-50-P